DEPARTMENT OF HEALTH AND HUMAN SERVICES

Centers for Disease Control and Prevention

[60Day-22-22HJ; Docket No. CDC-2022-0086]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a proposed information collection, as required by the Paperwork Reduction Act of 1995. This notice invites comment on a proposed information collection project titled Field Testing of Spanish-language Toolbox Talks for Spanish-speaking Construction Workers. The project will evaluate Spanish-language toolbox talks with Spanish-speaking construction workers to assess the effectiveness of toolbox talks as an OSH training tool with this audience.

DATES: CDC must receive written comments on or before September 20, 2022.

ADDRESSES: You may submit comments, identified by Docket No. CDC-2022-0086 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Field Testing of Spanish-language Toolbox Talks for Spanish-speaking Construction Workers—New—National Institute for Occupational Safety and Health (NIOSH), Centers for Disease Control and Prevention (CDC).

Background and Brief Description

Construction is one of the most dangerous industry sectors in which to be employed. There are approximately 1.8 million Spanish-speaking workers employed in construction, and Latino workers are injured and killed at rates 2-3 times higher than non-Latino construction workers. Among the challenges to meeting the occupational safety and health (OSH) needs of the construction industry is the large number of small businesses, with approximately 90% of small construction contractors employing 20 or fewer workers. Over 40% of Spanish-speaking construction workers work for businesses employing 10 or fewer workers. Latino workers are more likely to be employed in small establishments, and these small establishments have a higher risk of fatal injuries. In 2010 alone, 56.3% of construction deaths occurred in establishments with fewer than 20 employees. From 2003-2008, small establishments with 1-10 employees reported an average of 47% work-related deaths among Latino workers, while employing 44% of the Latino construction workers. These small construction contractors have limited resources to apply to OSH training needs.

Toolbox talks are brief (approximately 5-10 minutes) OSH instructional sessions held on the worksite or at the contractor's office. Requiring minimal resources, toolbox talks may provide an ideal OSH training format for small construction contractors and have been successfully disseminated throughout the construction industry. However, evaluations of their effectiveness have been limited, the results of which suggest increased knowledge, positive safety attitude change, and increased intentions to apply recommended safe work practices among English-speaking workers. Building on this initial work, the purpose of this study is to evaluate a subset of Spanish language toolbox talks as an OSH training tool for Spanish-speaking construction workers, and to assess whether the addition of a narrative scenario and discussion questions increases training effectiveness.

Data will be collected at the work site for four weeks, using a total of four toolbox talks. The data collection will occur prior to presentation of the first toolbox talk and following presentation of the final toolbox talk of the project. The data collection instrument will consist of items that will include basic demographics, safety knowledge related to the content of the selected toolbox talks, safety culture, and attitudes toward safety.

CDC requests OMB approval for an estimated 333 annual burden hours. There are no costs to respondents other than their time to participate.

Estimated Annualized Burden Hours
Type of respondents | Form name | Number of respondents | Number of responses per respondent | Average burden per response (in hours) | Total burden hours
Construction workers | Pre-Test | 400 | 1 | 20/60 | 133
Construction workers | Post-Test | 400 | 1 | 20/60 | 133
Construction workers | Toolbox Talks Training | 400 | 1 | 10/60 | 67
Total |  |  |  |  | 333

Jeffrey M. Zirger,
Lead, Information Collection Review Office, Office of Scientific Integrity, Office of Science, Centers for Disease Control and Prevention.

[FR Doc. 2022-15733 Filed 7-21-22; 8:45 am]

BILLING CODE 4163-18-P